DEPARTMENT OF TRANSPORTATION

Maritime Administration

[Docket Number: MARAD-2008-0060]

Environmental Impact Statements; Availability

AGENCY: Maritime Administration, U.S. Department of Transportation.

ACTION: Notice of Availability of Final Programmatic Environmental Assessment and Finding of No Significant Impact.

SUMMARY: Notice is hereby given that the Maritime Administration, of the U.S. Department of Transportation (U.S. DOT) has made available to interested parties the Final Programmatic Environmental Assessment (PEA) and the Finding of No Significant Impact (FONSI) for the Removal of Non-Retention Vessels from National Defense Reserve Fleet Sites for Disposal. The PEA and FONSI have been prepared pursuant to the National Environmental Policy Act (NEPA) (U.S.C. 4231 et seq.) in accordance with the Council on Environmental Quality (CEQ) regulations for implementing the procedural provisions of NEPA (40 CFR parts 1500-1508).

The purpose of the PEA is to evaluate the potential environmental impacts from and alternatives to the Removal of Non-Retention Vessels from National Defense Reserve Fleet Sites for Disposal proposed by the Maritime Administration. The Maritime Administration is charged with disposing of obsolete “non-retention” U.S. government-owned merchant type vessels of 1,500 gross tons or more per Section 203 of the Federal Property and Administrative Service Act of 1949, as amended (40 U.S.C. 548 (2008)). Non-retention vessels are vessels that have been determined by the Maritime Administration to be of insufficient value for commercial or military operation by the Federal Government to merit further preservation. 46 U.S.C. 57102 (2008). The Maritime Administration's non-retention ships are located at three fleet anchorages: James River, Virginia, Beaumont, Texas, and Suisun Bay, California.

The Maritime Administration is proposing to tow obsolete vessels from these three fleet anchorages either to one of seven Maritime Administration-qualified or provisionally qualified recycling facilities across the United States or others that may be qualified in the future, or to various locations (to be determined on a case by case basis) to be used as artificial reefs, or sold for reuse as limited by applicable law, or to be donated for use as memorials and museums, or to be used by the U.S. Navy in at-sea training exercises referred to as Sinking Exercises, or SINKEX, during which the Navy fires live munitions at the vessel to give trainees a better sense of the capabilities of Navy weaponry. Following the use of live fire, vessels are allowed to sink to the sea bottom.

The PEA studies potential environmental effects associated with the removal and disposal of non-retention vessels. The PEA considers potential effects to the natural and manmade environments including: Air quality, water quality, vessel traffic, cultural & historic resources, wetlands, benthic communities, fish resources, threatened & endangered species, socioeconomic resources, human health & safety, and other topics associated with the proposed action.

The Maritime Administration assessed the potential environmental consequences of the Proposed Action and the No Action alternative, and found no significant impact to the human and natural environments from implementation of the proposed action. The Maritime Administration announced the availability of the draft of this Final Programmatic Environmental Assessment July 2, 2008 and made it available to the public for comment. Responses to comments can be found online at http://www.regulations.gov at Docket ID MARAD-2008-0060.

FOR FURTHER INFORMATION CONTACT: Carolyn E. Junemann, 1200 New Jersey Ave., SE., Washington, DC 20590; phone: (202) 366-1920; fax: (202) 5904; or e-mail: Carolyn.junemann@dot.gov. Persons who use a telecommunications device for the deaf (TDD) may call the Federal Information Relay Service (FIRS) at 1-800-877-8339 to contact the above individuals during business hours. The FIRS is available twenty-four hours a day, seven days a week, to leave a message or question with the above individuals. You will receive a reply during normal business hours.

A copy of the Final Programmatic EA and Finding of No Significant Impact can be obtained or viewed online at http://www.regulations.gov. The files are in a portable document format (pdf); in order to review or print the document, users need to obtain a free copy of Acrobat Reader. The Acrobat Reader can be obtained from http://www.adobe.com/prodindex/acrobat/readstep.html.

Copies of the Final PEA and FONSI will also be available during normal business hours at the following locations: Beaumont Public Library, 801 Pearl St., Beaumont, TX 77701; Surry Public Library, 11640 Rolfe Hwy., Surry, VA 23882; Virgil I. Grissom Public Library, 366 DeShazor Dr., Newport News, VA 23608; and, Benicia Public Library, 150 E. L St., Benicia, CA 94510.

SUPPLEMENTARY INFORMATION: The mission of the Maritime Administration is to strengthen the U.S. maritime transportation system, including infrastructure, industry, and labor, to meet the economic and security needs of the United States, and to promote the development and maintenance of an adequate, well-balanced U.S. merchant marine, sufficient to carry the nation's domestic waterborne commerce and a substantial portion of its waterborne foreign commerce, and capable of service as a naval and military auxiliary in time of war or national emergency. The Maritime Administration also seeks to ensure that the United States maintains adequate shipbuilding and repair services, efficient ports, effective intermodal water and land transportation systems, and reserve shipping capacity for use in time of national emergency.

The Maritime Administration is charged with disposing of obsolete “non-retention” U.S. government-owned merchant type vessels of 1,500 gross tons or more per Section 203 of the Federal Property and Administrative Services Act of 1949, as amended (40 U.S.C. 548 (2008)). Non-retention vessels are vessels that have been determined by the Maritime Administration to be of insufficient value for commercial or military operation by the Federal Government to merit further preservation by the Federal Government. 46 U.S.C. 57102 (2008). The Maritime Administration's non-retention ships are located at fleet anchorages in the James River, Virginia, Beaumont, Texas, and Suisun Bay, California.

The majority of non-retention NDRF vessels are systematically being recycled. However, some vessels have been loaned to other Government agencies, sold for reuse in accordance with applicable law, used as artificial reefs, used as museums, and used for military and civilian training. All of the vessels to be removed are obsolete non-retention vessels that Congress has directed the Maritime Administration to dispose of under the Merchant Marine Act of 1936, as amended.

The Maritime Administration continues to consider domestic dismantling (recycling) as the predominant means of vessel disposal, but continually evaluates alternative means of disposal such as artificial reefing, sale for reuse, deep-water sinking through the Navy's SINKEX Program, and donations to historic organizations when possible.

Domestic recyclers of obsolete NDRF vessels are required to follow all Federal, State, and local laws and regulations governing worker safety and environmental protection. Specific authority to pay for recycling provided in the Department of Defense Appropriations Act for Fiscal Year 2001 (Pub. L. 106-259 section 8136), was enacted on August 9, 2000 and included a budget for the accelerated recycling of those vessels in the “worst condition.” All other alternatives for disposal are required to be in accordance with Federal, State, and local laws and regulations.

Selection of recycling facilities was included in the 2000 Congressional amendments to section 6(c)(1) of the National Maritime Heritage Act (NMHA), which directed the Maritime Administration to dispose of all obsolete vessels “in the manner that provides the best value to the Government” (Pub. L. 106-398, section 3502(a)). In addition, it provided subsection (b) Selection of Scrapping Facilities, which stated that:

The Secretary of Transportation may recycle obsolete vessels pursuant to Section 6(c)(1) of the NMHA of 1994 [16 United States Code (U.S.C.) 5405(c)(1)] through qualified dismantlement facilities, using the most expeditious recycling methodology and location practicable. Dismantlement facilities shall be selected under that section on a best value basis consistent with the Federal Acquisition Regulation (FAR), as in effect on the date of the enactment of this Act * * * taking into consideration, among other things, the ability of facilities to dismantle vessels: (1) At least cost to the Government, (2) in a timely manner, (3) giving consideration to worker safety and the environment, and (4) in a manner that minimizes the geographic distance that a vessel must be towed when towing a vessel poses a serious threat to the environment (Pub. L. 106-398, section 3502(b), 114 Stat. 1654a-490 (2000)).

An electronic version of this document and all documents entered into this docket are available at http://www.regulations.gov at Docket ID MARAD-2008-0060.

Dated: September 2, 2009.
By Order of the Maritime Administrator.
Murray Bloom,
Acting Secretary, Maritime Administration.

[FR Doc. E9-21814 Filed 9-9-09; 8:45 am]

BILLING CODE 4910-81-P